DEPARTMENT OF THE INTERIOR

Geological Survey

[GX23EN05ESBJF00]

Notice To Reopen the Advisory Council for Climate Adaptation Science Call for Nominations

AGENCY: U.S. Geological Survey, Interior.

ACTION: Notice to reopen a call for nominations.

SUMMARY: A request for nominations was published by the Department of the Interior in the Federal Register on December 2, 2022, for membership on the Advisory Council on Climate Adaptation Science (Council). The nomination period ended on January 16, 2023. This notice reopens the nomination period until April 17, 2023.

DATES: The nomination period for the notice published on December 2, 2022, at 87 FR 74164, is reopened. Nominations for the vacant positions are due on or before April 17, 2023.

ADDRESSES: Please address nomination letters to the National Climate Adaptation Science Center (NCASC) at casc@usgs.gov.

FOR FURTHER INFORMATION CONTACT: Shawn Carter by email at scarter@usgs.gov or by telephone at (571) 314-2788. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Secretary of the Interior and the Director of the U.S. Geological Survey seek nominations for membership on the Council. The Council reports to the Secretary of the Interior and advises and provides recommendations regarding (a) the contents of a national strategy identifying key climate-adaptation science priorities to advance the management of natural- and cultural resources in the face of climate change; (b) the nature, extent, and quality of relations with and engagement of key partners at the regional Climate Adaptation Science Center (CASC) level; (c) the nature and effectiveness of mechanisms to effectively deliver science information and tools and build capacity to aid the natural- and cultural resource-management community and decision-makers in adapting to a changing climate; (d) mechanisms that may be employed by the NCASC to ensure high standards of scientific quality and integrity in its products and to review and evaluate the performance of individual CASCs in advance of opportunities to re-compete expiring agreements; and (e) the integration of equity, particularly for historically underserved communities, in the operation of the NCASC and regional CASCs. On December 2, 2022, the original call for nominations was published in the Federal Register (87 FR 74164) with a 30-day nomination period ending January 16, 2023. This notice provides additional time for nominations (see DATES, above). For more information on the Council's duties, member terms, vacancies to fill, the nomination method, and eligibility, see the December 2, 2022, notice (87 FR 74164).

Authority: 5 U.S.C. Appendix 10.

Shawn Carter,
National Climate Adaptation Science Center, U.S. Geological Survey.

[FR Doc. 2023-05344 Filed 3-15-23; 8:45 am]

BILLING CODE 4338-11-P